DEPARTMENT OF TRANSPORTATION

Surface Transportation Board

[STB Docket No. AB-914X]

McCloud Railway Company—Abandonment and Discontinuance of Service Exemption—in Siskiyou, Shasta, and Modoc Counties, CA

On June 27, 2005, McCloud Railway Company (MCR) filed with the Surface Transportation Board a petition under 49 U.S.C. 10502 for exemption from the provisions of 49 U.S.C. 10903 to abandon, and discontinue service over, certain rail lines described below.

MCR proposes to abandon approximately 80 miles of rail line in Siskiyou and Shasta Counties, CA.¹ The specific rail lines proposed for abandonment include: (1) A rail line between milepost 3.3 east of McCloud and the end of the track at milepost B-61 at or near Burney; (2) a rail line between milepost B-19 at or near Bartle and milepost B-31.4 at or near Hambone; (3) a rail line between milepost B-58 at or near Berry and milepost S-7 at or near Sierra; and (4) a rail line between milepost B-31.6 at or near Bear Flat and milepost P-3.93 at or near Pondosa. MCR also proposes to discontinue trackage rights over a BNSF Railway Company² rail line between milepost 31.4 at Hambone and milepost 0.0 at Lookout Junction, a distance of approximately 31.4 miles in Siskiyou and Modoc Counties, CA.³ The lines traverse United States Postal Service Zip Codes 96067, 96057, 96013, 96054, and 96056, and include a station at Burney.

¹ In a Draft Environmental and Historic Report that MCR submitted in this proceeding on March 8, 2005, the carrier proposed to abandon approximately 100 miles of rail line, the carrier's entire system. Subsequent to that submission, however, MCR has decided to retain approximately 19.6 miles of rail line between MCR's point of connection to Union Pacific Railroad Company (UP) at milepost 16.3 at or neat Mt. Shasta, CA and milepost 3.3 east of McCloud, CA. MCR had mistakenly stated in its March 8 filing that the milepost of the MCR-UP connection was at milepost 15.2 rather than milepost 16.3.

² Effective January 20, 2005, the name of “The Burlington Northern Santa Fe Railway Company” was changed to “BNSF Railway Company.”

³ The Board issued an exemption for abandonment of the Hambone-Lookout Junction rail line in Burlington Northern and Santa Fe Railway Company—Abandonment Exemption—in Modoc and Siskiyou Counties, CA, STB Docket No. AB-6 (Sub-No. 414X) (STB served May 21, 2004). However, an exemption was not sought in that proceeding for discontinuance of MCR's operations over that line pursuant to trackage rights.

The lines do not contain federally granted rights-of-way. Any documentation in MCR's possession will be made available promptly to those requesting it.

The interest of railroad employees will be protected by the conditions set forth in Oregon Short Line Railroad Co.—Abandonment—Goshen, 360 I.C.C. 91 (1979).

By issuance of this notice, the Board is instituting an exemption proceeding pursuant to 49 U.S.C. 10502(d). A final decision will be issued by October 14, 2005.

Any offer of financial assistance (OFA) under 49 CFR 1152.27(b)(2) will be due no later than 10 days after service of a decision granting the petition for exemption. Each OFA must be accompanied by a $1,200 filing fee. See 49 CFR 1002.2(f)(25).

All interested persons should be aware that, following abandonment of rail service and salvage of the lines, the lines may be suitable for other public use, including interim trail use. Any request for a public use condition under 49 CFR 1152.28 or for trail use/rail banking under 49 CFR 1152.29 will be due no later than August 4, 2005. Each trail use request must be accompanied by a $200 filing fee. See 49 CFR 1002.2(f)(27).⁴

⁴ For the line where discontinuance rather than an abandonment is being sought, trail use/rail banking and public use conditions are not appropriate.

All filings in response to this notice must refer to STB Docket No. AB-914X and must be sent to: (1) Surface Transportation Board, 1925 K Street, NW., Washington, DC 20423-0001, and (2) Thomas F. McFarland, 208 South LaSalle Street, Suite 1890, Chicago, IL 60604-1112. Replies to MCR's petition are due on or before August 4, 2005.

Persons seeking further information concerning abandonment or discontinuance procedures may contact the Board's Office of Public Services at (202) 565-1592 or refer to the full abandonment or discontinuance regulations at 49 CFR 1152. Questions concerning environmental issues may be directed to the Board's Section of Environmental Analysis (SEA) at (202) 565-1539 [Assistance for the hearing impaired is available through the Federal Information Relay Service (FIRS) at 1-800-877-8339.]

An environmental assessment (EA) (or environmental impact statement (EIS), if necessary), prepared by SEA, will be served upon all parties of record and upon any agencies or other persons who commented during its preparations. Other interested persons may contact SEA to obtain a copy of the EA (or EIS). EAs in these abandonment proceedings normally will be available within 60 days of the filing of the petition. The deadline for submission of comments on the EA will generally be within 30 days of its service.

Board decisions and notices are available on our Web site at: http://www.stb.dot.gov.

Decided: July 6, 2005.
By the Board, Joseph H. Dettmar, Acting Director, Office of Proceedings.
Vernon A. Williams,
Secretary.

[FR Doc. 05-13666 Filed 7-14-05; 8:45 am]

BILLING CODE 4915-01-P